CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, CNCS is soliciting comments concerning its revised Martin Luther King, Jr. Day of Service Application Instructions. Submission of the Martin Luther King, Jr. Day of Service Application Instructions is required to be considered for funding.

Copies of the information collection request can be obtained by contacting the office listed in the Addresses section of this Notice.

DATES: Written comments must be submitted to the individual and office listed in the ADDRESSES section by January 27, 2014.

ADDRESSES: You may submit comments, identified by the title of the information collection activity, by any of the following methods:

(1) By mail sent to: Corporation for National and Community Service, Florida State Office; Attention Ms. Gail Killeen, State Program Specialist, Suite 115; 3615 McCrory Place, Orlando, FL, 32803.

(2) By hand delivery or by courier to the mail address given in paragraph (1) above, between 9:00 a.m. and 4:00 p.m. Eastern Time, Monday through Friday, except Federal holidays.

(3) By fax to: (407) 648-6116, Attention Ms. Gail Killeen, State Program Specialist.

(3) Electronically through mlkgrants@cns.gov or www.regulations.gov.

Individuals who use a telecommunications device for the deaf (TTY-TDD) may call 1-800-833-3722 between 8:00 a.m. and 8:00 p.m. Eastern Time, Monday through Friday.

FOR FURTHER INFORMATION CONTACT: Gail Killeen, (407) 648-6118, or by email at gkilleen@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The Martin Luther King, Jr. Day of Service Grant application is completed by applicant organizations interested in supporting a Martin Luther King, Jr. Day of Service Program. The application is completed electronically via the Corporation's web-based system, eGrants.

Current Action

CNCS seeks to renew the current information collection. Minor revisions are proposed, including new instructions for Year Two (2) and Year Three (3) Continuation Applications. The revised application instructions also now require selection of up to two CNCS National Performance Measures in 2014.

The information collection will otherwise be used in the same manner as the existing application. CNCS seeks to continue using the current application until the revised application is approved by OMB. The current application is due to expire on 10/31/2014.

Type of Review: Renewal.

Agency: Corporation for National and Community Service.

Title: Martin Luther King, Jr. Day of Service Grants.

OMB Number: 3045-0110.

Agency Number: None.

Affected Public: Eligible applicants for Martin Luther King, Jr., Day of Service grants.

Total Respondents: 80.

Frequency: Annual.

Average Time per Response: 11 hours.

Estimated Total Burden Hours: 880 hours.

Total Burden Cost (capital/startup): None.

Total Burden Cost (operating/maintenance): None.

Comments submitted in response to this notice will be summarized and/or included in the request for Office of Management and Budget approval of the information collection request; they will also become a matter of public record.

Dated: November 20, 2013.
Michael Berning,
Director, Office of Field Liaison.

[FR Doc. 2013-28285 Filed 11-25-13; 8:45 am]

BILLING CODE 6050-28-P